DEPARTMENT OF COMMERCE

National Oceanic and Atmospheric Administration

[I.D. 013006A]

New England Fishery Management Council; Atlantic Sea Scallop; Scoping Process

AGENCY: National Marine Fisheries Service (NMFS), National Oceanic and Atmospheric Administration (NOAA), Commerce.

ACTION: Notice of intent to prepare a supplemental environmental impact statement (SEIS) and notice of re-initiation of scoping process; request for comments.

SUMMARY: The New England Fishery Management Council (Council) announces its intent to prepare an amendment to the Atlantic Sea Scallop Fishery Management Plan (FMP) (Placopecten magellanicus (Gmelin)) and to prepare an SEIS to analyze the impacts of any proposed management measures. The Council is also formally re-initiating a public process to determine the scope of alternatives to be addressed in the amendment and SEIS. The purpose of this notification is to alert the interested public of the re-commencement of the scoping process and to provide for public participation in compliance with environmental documentation requirements.

DATES: The Council will discuss and take scoping comments at public meetings in February 2006. For specific dates and times of the scoping meetings, see SUPPLEMENTARY INFORMATION. Written scoping comments must be received on or before 5 p.m., local time, March 6, 2006.

ADDRESSES: The Council will take scoping comments at public meetings in New Hampshire, Massachusetts, and New Jersey. For specific locations, see SUPPLEMENTARY INFORMATION.

Written comments should be submitted by any of the following methods:

• Mail: Paul J. Howard, Executive Director, New England Fishery Management Council, 50 Water Street, Mill 2, Newburyport, MA 01950. Mark the outside of the envelope, “Scoping Comments on Amendment 11 to the Scallop FMP.”

• E-mail: Scallopscoping@noaa.gov

• Fax: (978) 465-3116.

Requests for copies of the scoping document and other information should be directed to Paul J. Howard, Executive Director, New England Fishery Management Council, 50 Water Street, Mill 2, Newburyport, MA 01950, telephone (978) 465-0492. The scoping document is accessible electronically via the Internet at http://www.nefmc.org.

FOR FURTHER INFORMATION CONTACT: Paul J. Howard, Executive Director, New England Fishery Management Council (978) 465-0492.

SUPPLEMENTARY INFORMATION:

Background

The U.S. Atlantic sea scallop fishery is managed as one stock complex along the east coast from Maine to Cape Hatteras, North Carolina. The Atlantic Sea Scallop FMP became effective on May 15, 1982. The FMP has been amended a number of times since then. In 1994, Amendment 4 began a limited access program for the directed scallop fleet with day-at-sea (DAS) limits and other measures to manage the scallop resource more effectively. Limited access vessels were assigned to different DAS permit categories (full-time, part-time or occasional) according to their 1985-1990 fishing activity. A “general category” permit was created for vessels that did not qualify for limited access. These vessels could apply for a general category permit and land up to 400 lb (181.4 kg) of scallops a day. At the time, this possession limit was deemed suitable and sufficient to accommodate scallop bycatch on long trips and sporadic small-scale scallop fishing near shore by non-qualifying vessels. Until now, the Council has recommended that the general category permit remain open access, meaning any vessel can qualify for a permit. Since 1999, there has been considerable growth in fishing effort and landings by vessels with general category permits, primarily as a result of resource recovery and higher scallop prices. This additional effort has been a contributing factor to why the FMP has been exceeding the fishing mortality targets. Additional measures for the Atlantic Sea Scallop FMP are being considered for two reasons: To effectively manage the general category fishery to address capacity, and to change the scallop fishing year to allow better and more timely integration of updated science into the management process.

Measures Under Consideration

The Council may consider a host of management measures to improve the effectiveness of general category management including, but not limited to, the following: Limited entry for the general category fleet; allocation of scallop resource to the general category fleet; restricting limited access scallop vessels from fishing under general category rules; use of output controls such as a hard total allowable catch (hard TAC) for the general category fleet; use of sectors and harvesting cooperatives (dedicated access privileges) for the general category fleet; and limits on the landings of incidental scallop catch. As for a change in the scallop fishing year, the amendment will consider a range of dates in addition to the status quo date of March 1.

It is possible that during the scoping process other issues will be raised related to the purpose of this amendment, and if appropriate, those issues will be considered by the Council as well.

Scoping Process

All persons affected by or otherwise interested in scallop management are invited to participate in determining the scope and significance of issues to be analyzed by submitting written comments (see ADDRESSES) and/or by attending one of the scoping meetings. Scope consists of the range of actions, alternatives, and impacts to be considered. Alternatives include the following: not amending the management plan (taking no action), developing an amendment that contains management measures such as those discussed in this notice, or other reasonable courses of action. Impacts may be direct, indirect, or cumulative.

This scoping process will also identify and eliminate from detailed analysis issues that are not relevant or feasible. When, after the scoping process is completed, the Council proceeds with the development of an amendment to the Scallop FMP, the Council will prepare an SEIS to analyze the impacts of the range of alternatives under consideration. The Council will hold public hearings to receive comments on the draft amendment and on the analysis of its impacts presented in the SEIS.

Scoping Hearing Schedule

The Council will discuss and take scoping comments at the following public meetings:

1. Tuesday, February 21, 7 p.m., Rutgers Cooperative Research & Extension, 4 Moore Road, Cape May, NJ 08210; telephone (609) 465-5115.

2. Wednesday, February 22, 7 p.m., Urban Forestry Center, 45 Elwyn Road, Portsmouth, NH 03801; telephone (603) 431-6774.

3. Thursday, February 23, 7 p.m., Hyannis Airport (Gourley Conference Room) , 480 Barnstable Road, Hyannis, MA 02601; telephone (508) 775-2020.

Special Accommodations

These meetings are accessible to people with physical disabilities. Requests for sign language interpretation or other auxiliary aids should be directed to Paul J. Howard (see ADDRESSES) at least 5 days prior to the meeting date.

Authority: 16 U.S.C. 1801 et seq.

Dated: January 31, 2006.
Alan D. Risenhoover,
Acting Director, Office of Sustainable Fisheries, National Marine Fisheries Service.

[FR Doc. E6-1585 Filed 2-3-06; 8:45 am]

BILLING CODE 3510-22-S